DEPARTMENT OF COMMERCE

International Trade Administration

[A-570-890]

Notice of Amended Preliminary Antidumping Duty Determination of Sales at Less Than Fair Value and Amendment to the Scope: Wooden Bedroom Furniture From the People's Republic of China

AGENCY: Import Administration, International Trade Administration, Department of Commerce.

EFFECTIVE DATE: September 9, 2004.

FOR FURTHER INFORMATION CONTACT: Laurel LaCivita or Robert Bolling, Import Administration, International Trade Administration, U.S. Department of Commerce, 14th Street and Constitution Avenue, NW., Washington, DC 20230; telephone: (202) 482-4243 or 482-3434, respectively.

SUPPLEMENTARY INFORMATION:

Significant Ministerial Error

Pursuant to 19 CFR 351.224(g)(1) and (g)(2), the Department of Commerce (“Department”) is amending the amended preliminary determination of sales at less than fair value in the antidumping duty investigation of wooden bedroom furniture from the People's Republic of China (“PRC”) to reflect the correction of significant ministerial errors that it made with respect to the following Section A respondents: Billy Wood Industrial (Dong Guan) Co., Ltd. (“Billy Wood Industrial”), Great Union Industrial (Dong Guan) Co., Ltd. (“Great Union Industrial”), and Time Faith Limited (“Time Faith”) (collectively, “Billy Wood”); Changshu HTC Import & Export Co., Ltd. (“HTC”); Dongguan Liaobushangdun Huada Furniture Factory and Great Rich (HK) Enterprise Company Limited (“Huada”); Zhanjiang Sunwin Arts & Crafts Co., Ltd. (“Sunwin”). Additionally, we are correcting the weighted-average rate assigned to certain Section A respondents that were granted a separate rate from 10.92 to 12.91 percent.

A ministerial error is defined as an error in addition, subtraction, or other arithmetic function, clerical error resulting from inaccurate copying, duplication, or the like, and any other similar type of unintentional error which the Secretary considers ministerial. See 19 CFR 351.224(f). A significant ministerial error is defined as an error, the correction of which, singly or in combination with other errors, would result in (1) a change of at least five absolute percentage points in, but not less than 25 percent of, the weighted-average dumping margin calculated in the original (erroneous) preliminary determination or (2) a difference between a weighted-average dumping margin of zero or de minimis and a weighted-average dumping margin of greater than de minimis or vice versa. See 19 CFR 351.224(g). We are publishing this amendment to the preliminary determination pursuant to 19 CFR 351.224(e).

Ministerial-Error Allegation

On August 5, 2004, the Department published an amended preliminary determination in this investigation.¹ The Department received a timely allegation of ministerial errors concerning the calculation of the weighted-average rate assigned to certain Section A respondents from petitioners.² In addition, Billy Wood, Huada, and Sunwin submitted timely allegations of ministerial error claiming that the Department overlooked evidence in their March 1, 2004, Section A responses that they were wholly foreign-owned enterprises and therefore qualified for separate rates. In addition, we have addressed HTC's June 29, 2004 allegation of ministerial errors, which we overlooked in the Amended Preliminary Determination. The Department has reviewed these allegations and agrees that some of the errors which the parties alleged are ministerial errors within the meaning of 19 CFR 351.224(f).³ In addition, we have amended the all-others rate applicable to all Section A companies that we have determined are qualified for a separate rate.⁴Scope

¹ See Notice of Amended Preliminary Antidumping Duty Determination of Sales at Less Than Fair Value: Wooden Bedroom Furniture from the People's Republic of China, 69 FR 47417 (August 5, 2004) (“Amended Preliminary Determination”).

² The American Furniture Manufacturers Committee for Legal Trade and its individual members and the Cabinet Makers, Millmen, and Industrial Carpenters Local 721, UBC Southern Council of Industrial Worker's Local Union 2305, United Steel Workers of American Local 193U, Carpenters Industrial Union Local 2093, and Teamsters, Chauffeurs, Warehousemen and Helper Local 991 (collectively “Petitioners”).

³ See Memorandum to Laurie Parkhill, Office Director, Antidumping Duty Investigation of Wooden Bedroom Furniture from the People's Republic of China: Analysis of Ministerial-Error Allegations for the Amended Preliminary Determination dated August 31, 2004 (“Amended Prelim Memo”).

⁴ See Amended Prelim Memo.

For purposes of this investigation, the product covered is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, oriented strand board, particle board, and fiberboard, with or without wood veneers, wood overlays, or laminates, with or without non-wood components or trim such as metal, marble, leather, glass, plastic, or other resins, and whether or not assembled, completed, or finished.

The subject merchandise includes: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,⁵ highboys,⁶ lowboys,⁷ chests of drawers,⁸ chests,⁹ door chests,¹⁰ chiffoniers,¹¹ hutches,¹² and armoires; ¹³ (6) desks, computer stands, filing cabinets, book cases, or writing tables that are attached to or incorporated in the subject merchandise; and (7) other bedroom furniture consistent with the above list.

⁵ A chest-on-chest is typically a tall chest-of-drawers in two or more sections (or appearing to be in two or more sections), with one or two sections mounted (or appearing to be mounted) on a slightly larger chest; also known as a tallboy.

⁶ A highboy is typically a tall chest of drawers usually composed of a base and a top section with drawers, and supported on four legs or a small chest (often 15 inches or more in height).

⁷ A lowboy is typically a short chest of drawers, not more than four feet high, normally set on short legs.

⁸ A chest of drawers is typically a case containing drawers for storing clothing.

⁹ A chest is typically a case piece taller than it is wide featuring a series of drawers and with or without one or more doors for storing clothing. The piece can either include drawers or be designed as a large box incorporating a lid.

¹⁰ A door chest is typically a chest with hinged doors to store clothing, whether or not containing drawers. The piece may also include shelves for televisions and other entertainment electronics.

¹¹ A chiffonier is typically a tall and narrow chest of drawers normally used for storing undergarments and lingerie, often with mirror(s) attached.

¹² A hutch is typically an open case of furniture with shelves that typically sits on another piece of furniture and provides storage for clothes.

¹³ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the Petition excludes: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate;¹⁴ (9) jewelry armories;¹⁵ and (10) cheval mirrors.¹⁶

¹⁴ As used herein, bentwood means solid wood made pliable. Bentwood is wood that is brought to a curved shape by bending it while made pliable with moist heat or other agency, and then set by cooling or drying. See Customs' Headquarters' Ruling Letter 043859, dated May 17, 1976.

¹⁵ Any armoire, cabinet or other accent item for the purpose of storing jewelry, not to exceed 24″ in width, 18″ in depth, and 49″ in height, including a minimum of 5 lined drawers lined with felt or felt-like material, at least one side door lined with felt or felt-like material, with necklace hangers, and a flip-top lid with inset mirror. See Memorandum from Laurel LaCivita to Laurie Parkhill, Office Director, Issues and Decision Memorandum Concerning Jewelry Armoires and Cheval Mirrors in the Antidumping Duty Investigation of Wooden Bedroom Furniture from the People's Republic of China dated August 31, 2004.

¹⁶ Cheval mirrors, i.e., any framed, tiltable mirror with a height in excess of 50″ that is mounted on a floor-standing, hinged base. See Id.

Imports of subject merchandise are classified under statistical category 9403.50.9040 of the Harmonized Tariff Schedule of the United States (“HTSUS”) as “wooden* * *beds” and under statistical category 9403.50.9080 of the HTSUS as “other* * *wooden furniture of a kind used in the bedroom.” In addition, wooden headboards for beds, wooden footboards for beds, wooden side rails for beds, and wooden canopies for beds may also be entered under statistical category 9403.50.9040 of the HTSUS as “parts of wood” and framed glass mirrors may also be entered under statistical category 7009.92.5000 of the HTSUS as “glass mirrors* * *framed.” This investigation covers all wooden bedroom furniture meeting the above description, regardless of tariff classification. Although the HTSUS subheadings are provided for convenience and customs purposes, our written description of the scope of this proceeding is dispositive.

Amended Preliminary Determination

As a result of our correction of ministerial errors in the Preliminary Determination, we have determined that the following weighted-average percentage dumping margins apply to imports of wooden bedroom furniture from the PRC:

Company | 6/24/04 Prelim | 8/5/04 Amendment | Amendment
Alexandre International Corp., or Southern Art Development Limited, or Alexandre Furniture (Shenzhen) Co., Ltd., or Southern Art Furniture Factory |  | 10.92 | 12.91
Art Heritage International, Ltd., or Super Art Furniture Co., Ltd., or Artwork Metal & Plastic Co., Ltd., or Jibson Industries, Ltd., or Always Loyal International |  | 10.92 | 12.91
Billy Wood Industrial (Dong Guan) Co., Ltd., or Great Union Industrial (Dongguan) Co., Ltd., or Time Faith Limited |  |  | 12.91
Changshu HTC Import & Export Co., Ltd |  |  | 12.91
Cheng Meng Furniture (PTE) Ltd., or China Cheng Meng Decoration & Furniture Co., Ltd | 10.92 |  | 12.91
Chuan Fa Furniture Factory |  | 10.92 | 12.91
Classic Furniture Global Co., Ltd | 10.92 |  | 12.91
Clearwise Company Limited |  | 10.92 | 12.91
COE, Ltd. |  | 10.92 | 12.91
Dalian Guangming Furniture Co., Ltd | 10.92 |  | 12.91
Dalian Huafeng Furniture Co., Ltd | 10.92 |  | 12.91
Dongguan Cambridge Furniture Co., or Glory Oceanic Company, Limited | 10.92 |  | 12.91
Dongguan Chunsan Wood Products Co., Ltd |  | 10.92 | 12.91
Dongguan Creation Furniture Co., Ltd., or Creation Industries Co., Ltd | 10.92 |  | 12.91
Dongguan Da Zhong Woodwork Co., Ltd |  | 10.92 | 12.91
Dongguan Grand Style Furniture, or Hong Kong Da Zhi Furniture (Grand Style Group) | 10.92 |  | 12.91
Dongguan Great Reputation Furniture Co., Ltd | 10.92 |  | 12.91
Dongguan Hero Way Woodwork Co., Ltd |  | 10.92 | 12.91
Dongguan Hung Sheng Artware Products Co., Ltd., or Coronal Enterprise Co., Ltd | 10.92 |  | 12.91
Dongguan Kin Feng Furniture Co., Ltd | 10.92 |  | 12.91
Dongguan Kingstone Furniture Co., Ltd., or Kingstone Furniture Co., Ltd | 10.92 |  | 12.91
Dongguan Liaobushangdun Huada Furniture Factory, or Great Rich (HK) Enterprise Company Limited |  |  | 12.91
Dongguan Qingxi Xinyi Craft Furniture Factory (Joyce Art Factory) | 10.92 |  | 12.91
Dongguan Singways Furniture Co., Ltd | 10.92 |  | 12.91
Dongguan Sunrise Furniture Co., or Taicang Sunrise Wood Industry Co., Ltd., or Shanghai Sunrise Furniture Co., Ltd., or Fairmont Designs |  | 10.92 | 12.91
Dream Rooms Furniture (Shanghai) Co., Ltd |  | 10.92 | 12.91
Eurosa (Kunshan) Co., Ltd., or Eurosa Furniture Co., (PTE) Ltd. (Eurosa) | 10.92 |  | 12.91
Ever Spring Furniture Company Ltd., or S.Y.C. Family Enterprise Co., Ltd. (Everspring) | 10.92 |  | 12.91
Fine Furniture (Shanghai) Limited | 10.92 |  | 12.91
Foshan Guanqiu Furniture Co., Ltd |  | 10.92 | 12.91
Fujian Lianfu Forestry Co., Ltd., or Fujian Wonder Pacific Inc. (Fujian) | 10.92 |  | 12.91
Gaomi Yatai Wooden Ware Co., Ltd., or Team Prospect International Limited, or Money Gain International Co |  | 10.92 | 12.91
Garri Furniture (Dong Guan) Co., Ltd., or Molabile International, Inc., or Weei Geo Enterprise Co., Ltd |  | 10.92 | 12.91
Green River Wood (Dongguan) Ltd |  | 10.92 | 12.91
Guangming Group Wumahe Furniture Co., Ltd | 10.92 |  | 12.91
Hainan Jong Bao Lumber Co., Ltd., or Jibbon Enterprise Co., Ltd | 10.92 |  | 12.91
Hamilton & Spill Ltd | 10.92 |  | 12.91
Hang Hai Woodcraft's Art Factory | 10.92 |  | 12.91
Hualing Furniture (China) Co., Ltd., or Tony House Manufacture (China) Co., Ltd., or Buysell Investments Ltd., or Tony House Industries Co., Ltd | 10.92 |  | 12.91
Jardine Enterprise, Ltd | 10.92 |  | 12.91
Jiangsu Weifu Group Fullhouse Furniture Manufacturing. Corp | 10.92 |  | 12.91
Jiangsu Yuexing Furniture Group Co., Ltd | 10.92 |  | 12.91
Jiedong Lehouse Furniture Co., Ltd | 10.92 |  | 12.91
King's Way Furniture Industries Co., Ltd., or Kingsyear Ltd | 10.92 |  | 12.91
Kuan Lin Furniture (Dong Guan) Co., Ltd., or Kuan Lin Furniture Factory, or Kuan Lin Furniture Co., Ltd |  | 10.92 | 12.91
Kunshan Summit Furniture Co., Ltd | 10.92 |  | 12.91
Langfang Tiancheng Furniture Co., Ltd | 10.92 |  | 12.91
Leefu Wood (Dongguan) Co., Ltd., or King Rich International, Ltd | 10.92 |  | 12.91
Link Silver Ltd. (V.I.B.), or Forward Win Enterprises Company Limited, or Dongguan Haoshun Furniture Ltd | 10.92 |  | 12.91
Locke Furniture Factory (dba Kai Chan Furniture Co., Ltd.), or Kai Chan (Hong Kong) Enterprise Limited, or Taiwan Kai Chan Co., Ltd | 10.92 |  | 12.91
Longrange Furniture Co., Ltd |  | 10.92 | 12.91
Nantong Dongfang Orient Furniture Co., Ltd | 10.92 |  | 12.91
Nantong Yushi Furniture Co., Ltd | 10.92 |  | 12.91
Nathan International Ltd., or Nathan Rattan Factory | 10.92 |  | 12.91
Passwell Corporation, or Pleasant Wave Limited |  | 10.92 | 12.91
Perfect Line Furniture Co., Ltd | 10.92 |  | 12.91
Prime Wood International Co., Ltd., or Prime Best International Co., Ltd., or Prime Best Factory, or Liang Huang (Jiaxing) Enterprise Co., Ltd |  | 10.92 | 12.91
Qingdao Liangmu Co., Ltd | 10.92 |  | 12.91
Restonic (Dongguan) Furniture Ltd., or Restonic Far East (Samoa) Ltd | 10.92 |  | 12.91
RiZhao SanMu Woodworking Co., Ltd | 10.92 |  | 12.91
Season Furniture Manufacturing Co., or Season Industrial Development Co. (Season Group) | 10.92 |  | 12.91
Sen Yeong International Co., Ltd., or Sheh Hau International Trading Ltd | 10.92 |  | 12.91
Shanghai Aosen Furniture Co., Ltd | 10.92 |  | 12.91
Shanghai Maoji Imp and Exp Co., Ltd | 10.92 |  | 12.91
Sheng Jing Wood Products (Beijing) Co., Ltd., or Telstar Enterprises Ltd | 10.92 |  | 12.91
Shenyang Shining Dongxing Furniture Co., Ltd | 10.92 |  | 12.91
Shenzhen Forest Furniture Co., Ltd | 10.92 |  | 12.91
Shenzhen Jiafa High Grade Furniture Co., Ltd., or Golden Lion International Trading Ltd | 10.92 |  | 12.91
Shenzhen New Fudu Furniture Co., Ltd | 10.92 |  | 12.91
Shenzhen Wonderful Furniture Co., Ltd | 10.92 |  | 12.91
Shenzhen Xiande Furniture Factory |  | 10.92 | 12.91
Shenzhen Xingli Furniture Co., Ltd | 10.92 |  | 12.91
Shun Feng Furniture Co., Ltd | 10.92 |  | 12.91
Songgang Jasonwood Furniture Factory, or Jasonwood Industrial Co., Ltd. S.A | 10.92 |  | 12.91
Starwood Furniture Manufacturing Co. Ltd | 10.92 |  | 12.91
Starwood Industries Ltd | 10.92 |  | 12.91
Strongson Furniture (Shenzhen) Co., Ltd., or Strongson Furniture Co., Ltd., or Strongson (HK) Co | 10.92 |  | 12.91
Sunforce Furniture (Hui-Yang) Co., Ltd., or Sun Fung Wooden Factory, or Sun Fung Company, or Shin Feng Furniture Co., Ltd., or Stupendous International Co., Ltd. (Sunforce) | 10.92 |  | 12.91
Tarzan Furniture Industries Ltd. & Samso Industries Ltd | 10.92 |  | 12.91
Teamway Furniture (Dong Guan) Ltd. & Brittomart Inc | 10.92 |  | 12.91
Techniwood Industries Limited | 10.92 |  | 12.91
Tianjin Fortune Furniture Co., Ltd | 10.92 |  | 12.91
Tianjin Master Home Furniture |  | 10.92 | 12.91
Tianjin Phu Shing Woodwork Enterprise Co., Ltd | 10.92 |  | 12.91
Tianjin Sande Fairwood Furniture Co., Ltd | 10.92 |  | 12.91
Tube-Smith Enterprise (ZhangZhou) Co., Ltd., or Tube-Smith Enterprise (Haimen) Co., Ltd., or Billonworth Enterprises Ltd | 10.92 |  | 12.91
Union Friend International Trade Co., Ltd | 10.92 |  | 12.91
U-Rich Furniture (Zhangzhou) Co., Ltd., or U-Rich Furniture Ltd | 10.92 |  | 12.91
Wanhengtong Nueevder (Furniture) Manufacture Co., Ltd., or Dongguan Wanengtong Industry Co., Ltd | 10.92 |  | 12.91
Woodworth Wooden Industries (Dong Guan) Co., Ltd | 10.92 |  | 12.91
Xiamen Yongquan Sci-Tech Development Co., Ltd | 10.92 |  | 12.91
Jiangsu XiangSheng Bedtime Furniture Co., Ltd | 10.92 |  | 12.91
Xingli Arts & Crafts Factory of Yangchun | 10.92 |  | 12.91
Yangchun Hengli Company Limited | 10.92 |  | 12.91
Yeh Brothers World Trade, Inc | 10.92 |  | 12.91
Yichun Guangming Furniture Co., Ltd | 10.92 |  | 12.91
Yida Co., Ltd., or Yitai Worldwide, Ltd., or Yili Co., Ltd., or Yetbuild Co., Ltd |  | 10.92 | 12.91
Yihua Timber Industry Co., Ltd | 10.92 |  | 12.91
Zhang Zhou Sanlong Wood Product Co., Ltd | 10.92 |  | 12.91
Zhangjiagang Zheng Yan Decoration Co., Ltd | 10.92 |  | 12.91
Zhangzhou Guohui Industrial & Trade Co. Ltd | 10.92 |  | 12.91
Zhanjiang Sunwin Arts & Crafts Co., Ltd |  |  | 12.91
Zhong Shan Fullwin Furniture Co., Ltd | 10.92 |  | 12.91
Zhongshan Fookyik Furniture Co., Ltd | 10.92 |  | 12.91
Zhongshan Golden King Furniture Industrial Co., Ltd | 10.92 |  | 12.91
Zhoushan For-Strong Wood Co., Ltd | 10.92 |  | 12.91

The collection of bonds or cash deposits and suspension of liquidation will be revised accordingly in accordance with section 733(d) of the Tariff Act of 1930, as amended (“the Act”).

International Trade Commission Notification

In accordance with section 733(f) of the Act, we have notified the International Trade Commission (“ITC”) of our amended preliminary determination. If our final determination is affirmative, the ITC will determine before the later of 120 days after the date of the preliminary determination or 45 days after our final determination whether the domestic industry in the United States is materially injured, or threatened with material injury, by reason of imports, or sales (or the likelihood of sales) for importation, of the subject merchandise.

This determination is issued and published in accordance with sections 733(f) and 777(I)(1) of the Act and 19 CFR 351.224(e).

Dated: September 2, 2004.
James J. Jochum,
Assistant Secretary for Import Administration.

[FR Doc. 04-20464 Filed 9-8-04; 8:45 am]

BILLING CODE 3510-DS-P